DEPARTMENT OF THE TREASURY

Treasury Advisory Committee on Commercial Operations of the U.S. Customs Service

AGENCY: Departmental Offices, Treasury.

ACTION: Notice of meeting.

SUMMARY: This notice announces the date, time, and location for a meeting of the Treasury Advisory Committee on Commercial Operations (COAC), combining both the fourth meeting of the first COAC year, and the first meeting of the second COAC year of the current charter, and the provisional agenda for consideration by the Committee.

DATES: The next meeting of the Treasury Advisory Committee on Commercial Operations of the U.S. Customs Service will be held on Thursday, November 15, 2001, starting at 9 a.m., the Department of the Treasury, Secretary's Diplomatic Reception Room (Rm. 3311), located at 15th Street and Pennsylvania Avenue, NW., in Washington, DC. The duration of the meeting will be the entire day.

FOR FURTHER INFORMATION CONTACT: Gordana S. Earp, Deputy Director, Tariff and Trade Affairs (Enforcement), Office of the Under Secretary (Enforcement), Telephone: (202) 622-0336.

The morning meeting will replace the COAC meeting which had been scheduled for September 14 in Detroit, but was cancelled due to travel disruptions following the terrorist attacks on September 11. The afternoon session will cover the meeting that had been tentatively scheduled for December of this year.

At this meeting, the Advisory Committee is expected to pursue the following agenda. The agenda may be modified prior to the meeting.

Agenda

(1) Merchandise Processing Fee Subcommittee

(2) Office of Rules & Regulations Subcommittee

(3) Compliance Assessment Team Subcommittee

(4) Import Data & Customs Entry Subcommittee; ACE (Automated Commercial Environment) development; impact of bill S. 1214; “Port and Maritime Security Act of 2001”

(5) Impact on Customs Operations stemming from heightened alert in terrorist activities

(6) Update on Other Customs Matters

SUPPLEMENTARY INFORMATION: The meeting is open to the public; however, participation in the Committee's deliberations is limited to Committee members, Customs and Treasury Department staff, and persons invited to attend the meeting for special presentations. A person other than an Advisory Committee member who wishes to attend the meeting should contact Theresa Manning at (202) 622-0220 or Helen Belt at (202) 622-0230.

Dated: October 2, 2001.
Timothy E. Skud,
Acting Deputy Assistant Secretary, Regulatory, Tariff, and Trade (Enforcement).

[FR Doc. 01-25749 Filed 10-11-01; 8:45 am]

BILLING CODE 4810-25-P